NUCLEAR REGULATORY COMMISSION

[Docket No. NRC-2011-0263]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on November 28, 2011 (76 FR 72983).

1. Type of submission, new, revision, or extension: Extension.

2. The title of the information collection: 10 CFR Part 31, General Domestic Licenses for Byproduct Material.

3. Current OMB approval number: 3150-0016.

4. The form number if applicable: N/A.

5. How often the collection is required: Reports are submitted as events occur. General license registration requests may be submitted at any time. Changes to the information on the registration may be submitted as they occur.

6. Who will be required or asked to report: Persons receiving, possessing, using, or transferring devices containing byproduct material.

7. An estimate of the number of annual responses: 35,997 (3,420 NRC licensees + 32,577 Agreement States).

8. The estimated number of annual respondents: 23,300 (Approximately 2,400 NRC general licensees and 20,900 Agreement State general licensees).

9. An estimate of the total number of hours needed annually to complete the requirement or request: 10,998.5 hours (1,061 hours for NRC licensees [461 hours reporting + 600 hours recordkeeping] + 9,937.5 hours for Agreement State licensees [4,712.5 hours reporting + 5,225 hours recordkeeping]).

10. Abstract: 10 CFR Part 31 establishes general licenses for the possession and use of byproduct material in certain devices. General licensees are required to keep testing records and submit event reports identified in Part 31, which assist NRC in determining with reasonable assurance that devices are operated safely and without radiological hazard to users or the public.

The public may examine and have copied for a fee publicly available documents, including the final supporting statement, at the NRC's Public Document Room, Room O1F-21, One White Flint North, 11555 Rockville Pike, Rockville, Maryland 20852. OMB clearance requests are available at the NRC's Web site: http://www.nrc.gov/public-involve/doc-comment/omb/index.html. The document will be available on the NRC home page site for 60 days after the signature date of this notice.

Comments and questions should be directed to the OMB reviewer listed below by April 2, 2012. Comments received after this date will be considered if it is practical to do so, but assurance of consideration cannot be given to comments received after this date.

Chad Whiteman, Desk Officer, Office of Information and Regulatory Affairs (3150-0016), NEOB-10202, Office of Management and Budget, Washington, DC 20503.

Comments can also be emailed to Chad_S_Whiteman@omb.eop.gov or submitted by telephone at (202) 395-4718.

The NRC Clearance Officer is Tremaine Donnell, (301) 415-6258.

Dated at Rockville, Maryland, this 27th day of February 2012.
For the Nuclear Regulatory Commission.
Tremaine Donnell,
NRC Clearance Officer, Office of Information Services.

[FR Doc. 2012-4968 Filed 2-29-12; 8:45 am]

BILLING CODE 7590-01-P